DEPARTMENT OF STATE

[Public Notice 6405]

Notice of Meeting of the Advisory Committee on International Law

A meeting of the Advisory Committee on International Law will take place on Friday, November 7, 2008, from 10 a.m. to approximately 4 p.m., in Room 1105 of the United States Department of State, 2201 C Street, NW., Washington, DC. The meeting will be chaired by the Legal Adviser of the Department of State, John B. Bellinger, III, and will be open to the public up to the capacity of the meeting room. It is anticipated that the agenda of the meeting will cover a range of current international legal topics, including the recent claims settlement with Libya; legal issues involving Kosovo; issues regarding the International Criminal Court; and international legal issues for the incoming administration. Members of the public will have an opportunity to participate in the discussion.

Entry to the building is controlled and will be facilitated by advance arrangements. Members of the public who wish to attend the session must, by Wednesday, November 5, 2008, notify the Office of the Assistant Legal Adviser for Claims and Investment Disputes (telephone: 202-776-8343) of their name, date of birth; citizenship (country); ID number, i.e., U.S. government ID (agency), U.S. military ID (branch), passport (country) or driver's license (state) number; professional affiliation, address and telephone number in order to arrange admittance. This includes admittance for government employees as well as others. All attendees must use the “C” Street entrance. One of the following valid IDs will be required for admittance: any U.S. driver's license with photo, a passport, or a U.S. government agency ID. Because an escort is required at all times, attendees should expect to remain in the meeting for the entire morning or afternoon session.

Dated: October 15, 2008.
Sharla Draemel,
Attorney-Adviser, Office of Claims and Investment Disputes, Office of the Legal Adviser, Executive Director, Advisory Committee on International Law, Department of State.

[FR Doc. E8-25015 Filed 10-20-08; 8:45 am]

BILLING CODE 4710-08-P